DEPARTMENT OF ENERGY

Federal Energy Regulatory Commission

Combined Notice of Filings #2

Take notice that the Commission received the following electric corporate filings:

Docket Numbers: EC14-43-000.

Applicants: Wolverine Power Supply Cooperative, Inc.

Description: Application for Authorization for Disposition of Jurisdictional Facilities Pursuant to Federal Power Act Section 203, and Request for Expedited Treatment and Limited Waivers of Wolverine Power Supply Cooperative, Inc.

Filed Date: 1/17/14.

Accession Number: 20140117-5176.

Comments Due: 5 p.m. ET 2/7/14.

Docket Numbers: EC14-44-000.

Applicants: Longview Power, LLC.

Description: Application under Section 203 of Longview Power, LLC.

Filed Date: 1/17/14.

Accession Number: 20140117-5266.

Comments Due: 5 p.m. ET 2/7/14.

Docket Numbers: EC14-45-000.

Applicants: Verso Bucksport Power LLC, Hydro-Quebec.

Description: Application For Authorization Pursuant to Section 203 of the Federal Power Act and Requests for Confidential Treatment, Expedited Consideration and Waivers of Verso Bucksport Power LLC, et. al.

Filed Date: 1/17/14.

Accession Number: 20140117-5271.

Comments Due: 5 p.m. ET 2/7/14.

Take notice that the Commission received the following electric rate filings:

Docket Numbers: ER11-2211-003; ER11-2209-003; ER11-2210-003; ER11-2207-003; ER11-2206-003; ER10-3244-002; ER11-2843-002; ER13-1586-001; ER10-1992-007.

Applicants: Alta Wind I, LLC, Alta Wind II, LLC, Alta Wind III, LLC, Alta Wind IV, LLC, Alta Wind V, LLC, Alta Wind X, LLC, Alta Wind XI, LLC, Coso Geothermal Power Holdings, LLC, Oak Creek Wind Power, LLC, TGP Energy Management, LLC, Victory Garden Phase IV, LLC.

Description: Notice of Non-Material Change in Status of Alta Wind I, LLC, et. al.

Filed Date: 1/17/14.

Accession Number: 20140117-5300.

Comments Due: 5 p.m. ET 2/7/14.

Docket Numbers: ER13-2490-003.

Applicants: Simon Solar Farm, LLC.

Description: Name Change/Correction—Supplemental Information to be effective 11/27/2013.

Filed Date: 1/17/14.

Accession Number: 20140117-5234.

Comments Due: 5 p.m. ET 2/7/14.

Docket Numbers: ER14-1044-000.

Applicants: Emera Energy U.S. Subsidiary No. 2, Inc.

Description: Filing in Compliance with Order No. 784 to be effective 11/27/2013.

Filed Date: 1/17/14.

Accession Number: 20140117-5155.

Comments Due: 5 p.m. ET 2/7/14.

Docket Numbers: ER14-1045-000.

Applicants: PJM Interconnection, L.L.C.

Description: Original Service Agreement No. 3740; Queue No. X1-110 to be effective 12/23/2013.

Filed Date: 1/17/14.

Accession Number: 20140117-5158.

Comments Due: 5 p.m. ET 2/7/14.

Docket Numbers: ER14-1046-000.

Applicants: Rumford Power Inc.

Description: Filing in Compliance with Order No. 784 to be effective 11/27/2013.

Filed Date: 1/17/14.

Accession Number: 20140117-5167.

Comments Due: 5 p.m. ET 2/7/14.

Docket Numbers: ER14-1047-000.

Applicants: Tiverton Power LLC.

Description: Filing in Compliance with Order No. 784 to be effective 11/27/2013.

Filed Date: 1/17/14.

Accession Number: 20140117-5174.

Comments Due: 5 p.m. ET 2/7/14.

Docket Numbers: ER14-1048-000.

Applicants: Public Service Company of New Mexico.

Description: Aragonne TSA's to be effective 1/1/2014.

Filed Date: 1/17/14.

Accession Number: 20140117-5183.

Comments Due: 5 p.m. ET 2/7/14.

Docket Numbers: ER14-1049-000.

Applicants: Midcontinent Independent System Operator, Inc.

Description: 2014-01-17 ER14-106-001_Gaming Filing Compliance to be effective 10/17/2013.

Filed Date: 1/17/14.

Accession Number: 20140117-5186.

Comments Due: 5 p.m. ET 2/7/14.

Docket Numbers: ER14-1050-000.

Applicants: ISO New England Inc., New England Power Pool Participants Committee.

Description: Performance Incentives Market Rule Changes—Part 1 of 2 to be effective 6/1/2014.

Filed Date: 1/17/14.

Accession Number: 20140117-5190.

Comments Due: 5 p.m. ET 2/7/14.

Docket Numbers: ER14-1050-001.

Applicants: ISO New England Inc., New England Power Pool Participants Committee.

Description: Performance Incentives Market Rule Changes—Part 2 of 2 to be effective 6/1/2018.

Filed Date: 1/17/14.

Accession Number: 20140117-5260.

Comments Due: 5 p.m. ET 2/7/14.

Docket Numbers: ER14-1051-000.

Applicants: Southern California Edison Company.

Description: Amendment to Distribution Service Agmt for SCE-QF Resources to be effective 12/15/2013.

Filed Date: 1/17/14.

Accession Number: 20140117-5191.

Comments Due: 5 p.m. ET 2/7/14.

Docket Numbers: ER14-1052-000.

Applicants: Alcoa Power Generating Inc.

Description: Request for Waiver of the Order No. 1000 Transmission Planning Requirements [complying with order in ER13-88] of Alcoa Power Generating Inc.

Filed Date: 1/17/14.

Accession Number: 20140117-5196.

Comments Due: 5 p.m. ET 2/17/14.

Docket Numbers: ER14-1053-000.

Applicants: Plum Point Energy Associates, LLC.

Description: Notice of Non-Material Change in Status to be effective 1/18/2014.

Filed Date: 1/17/14.

Accession Number: 20140117-5198.

Comments Due: 5 p.m. ET 2/7/14.

Docket Numbers: ER14-1054-000.

Applicants: Plum Point Services Company, LLC.

Description: Notice of Non-Material Change in Status to be effective 1/18/2014.

Filed Date: 1/17/14.

Accession Number: 20140117-5200.

Comments Due: 5 p.m. ET 2/7/14.

Docket Numbers: ER14-1055-000.

Applicants: PacifiCorp.

Description: Iberdrola NITSA Rev 1 to be effective 1/6/2014.

Filed Date: 1/17/14.

Accession Number: 20140117-5201.

Comments Due: 5 p.m. ET 2/7/14.

Docket Numbers: ER14-1056-000.

Applicants: Duke Energy Beckjord, LLC.

Description: Duke Northeast Triennial Filing to be effective 3/1/2014.

Filed Date: 1/17/14.

Accession Number: 20140117-5204.

Comments Due: 5 p.m. ET 3/18/14.

Docket Numbers: ER14-1057-000.

Applicants: Duke Energy Commercial Asset Management, Inc.

Description: Duke Northeast Triennial Filing to be effective 3/1/2014.

Filed Date: 1/17/14.

Accession Number: 20140117-5207.

Comments Due: 5 p.m. ET 3/18/14.

Docket Numbers: ER14-1058-000.

Applicants: Southwest Power Pool, Inc.

Description: 2652 Waverly Wind GIA; Cancellation of 2501 Waverly Wind GIA to be effective 12/30/2013.

Filed Date: 1/17/14.

Accession Number: 20140117-5208.

Comments Due: 5 p.m. ET 2/7/14.

Docket Numbers: ER14-1059-000.

Applicants: Duke Energy Commercial Enterprises, Inc.

Description: Duke Northeast Triennial Filing to be effective 3/1/2014.

Filed Date: 1/17/14.

Accession Number: 20140117-5209.

Comments Due: 5 p.m. ET 3/18/14.

Docket Numbers: ER14-1060-000.

Applicants: Duke Energy Conesville, LLC.

Description: Duke Northeast Triennial Filing to be effective 3/1/2014.

Filed Date: 1/17/14.

Accession Number: 20140117-5211.

Comments Due: 5 p.m. ET 3/18/14.

Docket Numbers: ER14-1061-000.

Applicants: Duke Energy Dicks Creek, LLC.

Description: Duke Northeast Triennial Filing to be effective 3/1/2014.

Filed Date: 1/17/14.

Accession Number: 20140117-5218.

Comments Due: 5 p.m. ET 3/18/14.

Docket Numbers: ER14-1062-000.

Applicants: Duke Energy Fayette II, LLC.

Description: Duke Northeast Triennial Filing to be effective 3/1/2014.

Filed Date: 1/17/14.

Accession Number: 20140117-5219.

Comments Due: 5 p.m. ET 3/18/14.

Docket Numbers: ER14-1063-000.

Applicants: Duke Energy Hanging Rock II, LLC.

Description: Duke Northeast Triennial Filing to be effective 3/1/2014.

Filed Date: 1/17/14.

Accession Number: 20140117-5220.

Comments Due: 5 p.m. ET 3/18/14.

Docket Numbers: ER14-1064-000.

Applicants: Duke Energy Kentucky, Inc.

Description: Duke Northeast Triennial Filing to be effective 3/1/2014.

Filed Date: 1/17/14.

Accession Number: 20140117-5222.

Comments Due: 5 p.m. ET 3/18/14.

Docket Numbers: ER14-1065-000.

Applicants: Duke Energy Killen, LLC.

Description: Duke Northeast Triennial Filing to be effective 3/1/2014.

Filed Date: 1/17/14.

Accession Number: 20140117-5223.

Comments Due: 5 p.m. ET 3/18/14.

Docket Numbers: ER14-1066-000.

Applicants: Duke Energy Lee II, LLC.

Description: Duke Northeast Triennial Filing to be effective 3/1/2014.

Filed Date: 1/17/14.

Accession Number: 20140117-5224.

Comments Due: 5 p.m. ET 3/18/14.

Docket Numbers: ER14-1067-000.

Applicants: Duke Energy Miami Fort, LLC.

Description: Duke Northeast Triennial Filing to be effective 3/1/2014.

Filed Date: 1/17/14.

Accession Number: 20140117-5226.

Comments Due: 5 p.m. ET 3/18/14.

Docket Numbers: ER14-1068-000.

Applicants: Duke Energy Piketon, LLC.

Description: Duke Northeast Triennial Filing to be effective 3/1/2014.

Filed Date: 1/17/14.

Accession Number: 20140117-5232.

Comments Due: 5 p.m. ET 3/18/14.

Docket Numbers: ER14-1069-000.

Applicants: Duke Energy Retail Sales, LLC.

Description: Duke Northeast Triennial Filing to be effective 3/1/2014.

Filed Date: 1/17/14.

Accession Number: 20140117-5236.

Comments Due: 5 p.m. ET 3/18/14.

Docket Numbers: ER14-1070-000.

Applicants: Duke Energy Stuart, LLC.

Description: Duke Northeast Triennial Filing to be effective 3/1/2014.

Filed Date: 1/17/14.

Accession Number: 20140117-5237.

Comments Due: 5 p.m. ET 3/18/14.

Docket Numbers: ER14-1071-000.

Applicants: Duke Energy Washington II, LLC.

Description: Duke Northeast Triennial Filing to be effective 3/1/2014.

Filed Date: 1/17/14.

Accession Number: 20140117-5239.

Comments Due: 5 p.m. ET 3/18/14.

Docket Numbers: ER14-1072-000.

Applicants: Duke Energy Zimmer, LLC.

Description: Duke Northeast Triennial Filing to be effective 3/1/2014.

Filed Date: 1/17/14.

Accession Number: 20140117-5243.

Comments Due: 5 p.m. ET 3/18/14.

Docket Numbers: ER14-1073-000.

Applicants: Laurel Hill Wind Energy, LLC.

Description: Duke Northeast Triennial Filing to be effective 3/1/2014.

Filed Date: 1/17/14.

Accession Number: 20140117-5245.

Comments Due: 5 p.m. ET 3/18/14.

Docket Numbers: ER14-1074-000.

Applicants: North Allegheny Wind, LLC.

Description: Duke Northeast Triennial Filing to be effective 3/1/2014.

Filed Date: 1/17/14.

Accession Number: 20140117-5246.

Comments Due: 5 p.m. ET 3/18/14.

Docket Numbers: ER14-1075-000.

Applicants: CinCap V, LLC.

Description: Duke Northeast Triennial Filing to be effective 3/1/2014.

Filed Date: 1/17/14.

Accession Number: 20140117-5247.

Comments Due: 5 p.m. ET 3/18/14.

Docket Numbers: ER14-1076-000.

Applicants: Duke Energy Ohio, Inc.

Description: Duke Northeast Triennial Filing to be effective 3/1/2014.

Filed Date: 1/17/14.

Accession Number: 20140117-5255.

Comments Due: 5 p.m. ET 3/18/14.

Docket Numbers: ER14-1077-000.

Applicants: Victory Garden Phase IV, LLC.

Description: First Revised MBR Tariff to be effective 3/18/2014.

Filed Date: 1/17/14.

Accession Number: 20140117-5278.

Comments Due: 5 p.m. ET 2/7/14.

Docket Numbers: ER14-1078-000.

Applicants: Alta Wind I, LLC.

Description: Second Revised MBR to be effective 1/18/2014.

Filed Date: 1/17/14.

Accession Number: 20140117-5279.

Comments Due: 5 p.m. ET 2/7/14.

Docket Numbers: ER14-1079-000.

Applicants: Alta Wind II, LLC.

Description: Second Revised MBR to be effective 1/18/2014.

Filed Date: 1/17/14.

Accession Number: 20140117-5280.

Comments Due: 5 p.m. ET 2/7/14.

Docket Numbers: ER14-1080-000.

Applicants: Alta Wind III, LLC.

Description: Second Revised MBR to be effective 1/18/2014.

Filed Date: 1/17/14.

Accession Number: 20140117-5283.

Comments Due: 5 p.m. ET 2/7/14.

Docket Numbers: ER14-1081-000.

Applicants: Alta Wind IV, LLC.

Description: Second Revised MBR to be effective 1/18/2014.

Filed Date: 1/17/14.

Accession Number: 20140117-5284.

Comments Due: 5 p.m. ET 2/7/14.

Docket Numbers: ER14-1082-000.

Applicants: Alta Wind V, LLC.

Description: Second Revised MBR to be effective 1/18/2014.

Filed Date: 1/17/14.

Accession Number: 20140117-5285.

Comments Due: 5 p.m. ET 2/7/14.

Docket Numbers: ER14-1083-000.

Applicants: Alta Wind X, LLC.

Description: First Revised MBR to be effective 1/18/2014.

Filed Date: 1/17/14.

Accession Number: 20140117-5288.

Comments Due: 5 p.m. ET 2/7/14.

Docket Numbers: ER14-1084-000.

Applicants: Alta Wind XI, LLC.

Description: First Revised MBR to be effective 1/18/2014.

Filed Date: 1/17/14.

Accession Number: 20140117-5290.

Comments Due: 5 p.m. ET 2/7/14.

Docket Numbers: ER14-1085-000.

Applicants: Chandler Wind Partners, LLC.

Description: 2nd Revised MBR to be effective 1/18/2014.

Filed Date: 1/17/14.

Accession Number: 20140117-5294.

Comments Due: 5 p.m. ET 2/7/14.

Docket Numbers: ER14-1086-000.

Applicants: Coso Geothermal Power Holdings, LLC.

Description: 2nd Revised MBR to be effective 1/18/2014.

Filed Date: 1/17/14.

Accession Number: 20140117-5295.

Comments Due: 5 p.m. ET 2/7/14.

Docket Numbers: ER14-1087-000.

Applicants: Oak Creek Wind Power, LLC.

Description: 2nd Revised MBR to be effective 1/18/2014.

Filed Date: 1/17/14.

Accession Number: 20140117-5296.

Comments Due: 5 p.m. ET 2/7/14.

Docket Numbers: ER14-1088-000.

Applicants: TGP Energy Management, LLC.

Description: First Revised MBR Tariff to be effective 1/18/2014.

Filed Date: 1/17/14.

Accession Number: 20140117-5297.

Comments Due: 5 p.m. ET 2/7/14.

Take notice that the Commission received the following electric securities filings:

Docket Numbers: ES14-22-000.

Applicants: Southern Indiana Gas & Electric Company, Inc.

Description: Application for Authority to Issue Short-Term Debt of Southern Indiana Gas & Electric Company.

Filed Date: 1/17/14.

Accession Number: 20140117-5227.

Comments Due: 5 p.m. ET 2/7/14.

Take notice that the Commission received the following land acquisition reports:

Docket Numbers: LA13-4-000.

Applicants: Alabama Power Company, Georgia Power Company, Gulf Power Company, Mississippi Power Company, Southern Power Company.

Description: Quarterly Land Acquisition Report of the Southern Companies.

Filed Date: 1/17/14.

Accession Number: 20140117-5273.

Comments Due: 5 p.m. ET 2/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2014.
Nathaniel J. Davis, Sr.,
Deputy Secretary.

[FR Doc. 2014-01679 Filed 1-28-14; 8:45 am]

BILLING CODE 6717-01-P